DEPARTMENT OF HEALTH AND HUMAN SERVICES

Administration for Children and Families

Submission for OMB Review; Comment Request

Title: Federally Assisted State Transmitted (FAST) Levy.

OMB No.: New Collection.

Description: State IV-D child support enforcement agencies are required to have procedures to secure assets in cases where there is a support arrearage to satisfy any current support obligation and the arrearage by attaching and seizing assets of the obligor held in financial institutions. To assist states in fulfilling this statutory requirement the federal Office of Child Support Enforcement (OCSE) is proposing a new information collection using the Federally Assisted State Transmitted Levy (FAST Levy) application. FAST Levy is a centralized, secure and automated method of collecting and disseminating electronic levy notices between child support enforcement agencies and multistate financial institutions to secure the assets in an obligor's account.

The anticipated impact of employing FAST Levy is the significant reduction in existing delays to execute a levy notice, thereby diminishing opportunity for an obligor to close accounts; increase collections of past-due payments to state agencies and families; cut the states' and multistate financial institutions' administrative and implementation costs of manually executing levy notices; and strengthen document security.

The proposed information collection using the FAST Levy application is authorized by: (1) 42 U.S.C. 652(a)(7), which requires OCSE to provide technical assistance to state child support agencies to help them establish effective systems for collecting child and spousal support; (2) 42 U.S.C. 666 (a)(2) and (c)(1)(G)(ii), which requires state child support agencies to have procedures to secure assets of an obligor to satisfy past due support orders; and (3) 45 CFR 303.7(a)(5), which requires state child support agencies to transmit requests for information and provide requested information electronically to the greatest extent possible.

Respondents: Multistate Financial Institutions and State Child Support Agencies.

Annual Burden Estimates
Instrument | Number of respondents | Number of responses per respondent | Average burden hours per response | Total burden hours
FAST-Levy Response Withhold Record Specifications: Multistate Financial Institutions | 5 | 1 | 317.5 | 1,587.5
FAST-Levy Request Withhold Record Specifications: State Child Support Enforcement Agencies | 7 | 1 | 317.5 | 2,222.5

Estimated Total Annual Burden Hours: 3,810.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2013-23884 Filed 9-30-13; 8:45 am]

BILLING CODE 4184-01-P